DEPARTMENT OF LABOR

Employment and Training Administration

[TA-W-59,707]

Welch Allyn, Inc., San Diego, CA; Notice of Termination of Investigation

Pursuant to Section 221 of the Trade Act of 1974, as amended, an investigation was initiated on July 13, 2006 in response to a worker petition filed by a company official on behalf of workers at Welch Allyn, Inc., San Diego, California.

The petitioner has requested that the petition be withdrawn. Consequently, the investigation has been terminated.

Signed at Washington, DC, this 17th day of July 2006.
Elliott S. Kushner,
Certifying Officer, Division of Trade Adjustment Assistance.

[FR Doc. E6-13178 Filed 8-10-06; 8:45 am]

BILLING CODE 4510-30-P